DEPARTMENT OF ENERGY

Federal Energy Regulatory Commission

Notice of Effectiveness of Exempt Wholesale Generator or Foreign Utility Company Status

| Docket Nos.
CSOLAR IV WEST, LLC | EG14-36-000
Broken Bow Wind II, LLC | EG14-37-000
Duke Energy Miami Fort, LLC | EG14-38-000
Duke Energy Stuart, LLC | EG14-39-000
Duke Energy Conesville, LLC | EG14-40-000
Duke Energy Dicks Creek, LLC | EG14-41-000
Duke Energy Zimmer, LLC | EG14-42-000
Duke Energy Killen, LLC | EG14-43-000
Stephens Ranch Wind Energy, LLC | EG14-44-000
Grandview Wind Farm, LLC | EG14-45-000
Badger Creek Limited | EG14-46-000
Panda Sherman Power, LLC | EG14-47-000
Panda Temple Power, LLC | EG14-48-000
Panda Temple Power II, LLC | EG14-49-000
SEP II, LLC | EG14-50-000
NRG Solar Dandan LLC | EG14-51-000
Barilla Solar, LLC | EG14-52-000
Rising Tree Wind Farm LLC | EG14-53-000
Rising Tree Wind Farm II LLC | EG14-54-000
Headwaters Wind Farm LLC | EG14-55-000
GRE 314 East Lyme, LLC | EG14-56-000
West Deptford Energy Associates Urban Renewal, L.P. | EG14-57-000
Shannon Wind, LLC | EG14-58-000
Varna Wind, Inc. | FC14-13-000

Take notice that during the months of June and July 2014, the status of the above-captioned entities as Exempt Wholesale Generators or Foreign Utility Companies became effective by operation of the Commission's regulations. 18 CFR 366.7(a).

Dated: August 4, 2014.
Kimberly D. Bose,
Secretary.

[FR Doc. 2014-18887 Filed 8-8-14; 8:45 am]

BILLING CODE 6717-01-P